DEPARTMENT OF AGRICULTURE

Forest Service

Intent To Prepare an Environmental Impact Statement for the Sugar Run Project, McKean County, PA

AGENCY: Forest Service, USDA.

ACTION: Notice of intent to prepare an environmental impact statement.

SUMMARY: The Forest Service, Allegheny National Forest, Bradford Ranger District, will prepare a Draft Environmental Impact Statement to disclose the environmental consequences of the proposed Sugar Run Project. The Forest Service is proposing actions that would move the Sugar Run Project Area from the existing condition towards the Desired Future Condition (DFC) and would maintain the DFC in situations where it has been attained. The DFC is described in the Allegheny National Forest Land and Resource Management Plan (Forest Plan).

Proposed activities to meet the Desired Future Condition fall into three main categories. (1) Timber harvest and reforestation treatments consist of: Shelterwood seedcut/removal cuts, removal cuts, commercial thinning, group selection, single tree selection, improvement cutting, manual site preparation and release, herbicide application, fertilization, fencing, and tree planting. (2) Wildlife habitat improvement treatments consist of: noncommercial thinning, oak/hickory/shrub underplanting, pruning and release of apple trees, hawthorn release, constructing new openings, planting/fencing shrubs in openings, mowing, topdressing, seeding with wildflowers and grass, constructing bat boxes, bluebird boxes and vernal ponds. (3) Recreation treatments consist of: trail relocation, trail drainage improvement and footbridge construction. (4) Transportation treatments consist of: road decommissioning, road repair, road construction, road resurfacing, obtaining a right of way from an adjacent property owner, expanding stone pits, and changing road access.

DATES: Comments and suggestions concerning the scope of the analysis should be submitted (postmarked) by September 3, 2002 to ensure timely consideration.

ADDRESSES: Submit written, oral, or e-mail comments by: (1) Mail “Sugar Run Project,” ID Team Leader, HC 1 Box 88, Bradford, PA 16701; (2) phone—814-362-4613; (3) e-mail—anf/r9_allegheny@fs.fed.us (please note: when commenting by e-mail be sure to list Sugar Run EIS in the subject line and include a US Postal Service address so we may add you to our mailing list). For further information contact Chris Losi, project team leader, Bradford Ranger District, at 814-362-4613 or mail/e-mail correspondence to addresses listed above.

SUPPLEMENTARY INFORMATION: The Allegheny National Forest Land and Resource Management Plan (Forest Plan) sets site-specific goals for the management of forest resources. The Sugar Run Project includes portions of Management Area (MA) 3.0, which emphasizes timber harvesting as a means to make desired changes to forest vegetation and satisfy the public demand for wood products. The project area also includes portions of MA 6.1, which emphasizes providing habitat for wildlife, attractive scenery, and opportunities for non-motorized recreation.

Preliminary Issues were identified based on past projects in the area (environmental assessments), issues developed for similar projects, and site-specific concerns raised by the resource specialists. These issues, listed below, will provide a framework that the Forest Service will use to analyze a range of alternatives, including No Action for the Project Area.

1. Road Management—The Sugar Run Project Area contains an array of Forest Service, state, and private roads. Although roads provide important access for management and recreation, they are also capable of causing resource damage. The activities that have been proposed are the result of a detailed roads analysis. As alternatives are developed, the Forest Service will continue to analyze the risks and benefits of changes to the road system.

2. Even-Aged/Uneven-Aged Management—Even-aged management has been identified by the Forest Plan as the primary silvicultural system to be used in MA 3.0. Uneven-aged management is an option for MA 6.1 as well as inclusions within MA 3.0 such as riparian areas, wet soils, or visually sensitive areas. Previous environmental analyses have shown that many members of the public have a strong interest in the silvicultural system used on Forest Service lands.

3. Threatened and Endangered Species—Although no endangered, threatened, or sensitive species were found within the project area, an endangered Indiana bat was documented near the project area. Potential effects to the Indiana bat and its habitat will be evaluated for all of the alternatives considered in detail.

4. OHV trail expansion—A project to expand an existing trail for Off-Highway-Vehicles (OHVs) into the Sugar Run Project Area is in the preliminary planning stage. Although analysis of this trail expansion will occur in a separate environmental document, the Sugar Run EIS will need to consider the cumulative effects anticipated over the next ten years associated with the OHV trail expansion.

5. Location of North Country National Scenic Trail—Some concerns were raised about the proximity of timber treatments and proposed road construction to the North Country National Scenic Trail. Since the trail is currently near MA 6.1, there may be an opportunity to permanently relocate the trail. On the other hand, a permanent relocation may best be considered on a larger scale than the current project.

Comment Requested

This notice of intent initiates the scoping process, which guides the development of the environmental impact statement. Your comments will help the Forest Service refine and enhance the list of issues that are considered when analyzing alternatives to the proposed action. When this analysis is nearly complete, the Draft EIS will be filed with the Environmental Protection Agency and become available for public review (expected by April 2003). At that time the Environmental Protection Agency will publish a Notice of Availability of the document in the Federal Register (this will begin the 45-day comment period on the Draft EIS). After the comment period ends on the Draft EIS, the comments will be analyzed and considered by the Forest Service in preparing the final environmental impact statement. The Final EIS is scheduled for release in September 2003.

Comments received, including names and addresses of those who comment, will be considered part of the public record and may be subject to public disclosure. Any person may request the Agency to withhold a submission from the public record by showing how the Freedom of Information Act (FOIA) permits such confidentiality.

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objections that could be raised at the draft environmental impact statement stage but that are not raised until after completion of the final environmental impact statement stage may be waived or dismissed by the courts (City of Angoon v. Hodel, 803 F.2nd 1016, 1022 [9th Cir. 1986] and Wisconsin Heritages, Inc. v. Harris, 490 F. Supp. 1334, 1338 [E.D. Wis. 1980]).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points.

This decision will be subject to appeal under 36 CFR 215. The responsible official is John R. Schultz, Bradford Ranger District, HC 1 Box 88, Bradford, PA 16701.

Dated: July 19, 2002.
Kevin B. Elliott,
Forest Supervisor.

[FR Doc. 02-18817 Filed 8-1-02; 8:45 am]

BILLING CODE 3410-11-P